DEPARTMENT OF DEFENSE

Office of the Secretary

[Docket ID: DoD-2023-OS-0051]

Proposed Collection, Comment Request

AGENCY: United States Transportation Command (USTRANSCOM), Department of Defense (DoD).

ACTION: 60-Day information collection notice.

SUMMARY: In compliance with the Paperwork Reduction Act of 1995, USTRANSCOM announces a proposed public information collection and seeks public comment on the provisions thereof. Comments are invited on whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 11, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Component Name: United States Transportation Command, Mailing Address: 1 Scott Drive Bldg. 1900 West, Scott AFB, IL 62225-5006, Name of POC: Mr. Alan Banks, Telephone Number: (618) 817-9537, Alternate POC: Mr. Sean Green, Telephone Number: (618) 817-9538.

SUPPLEMENTARY INFORMATION:

Title; Associated Form; and OMB Number: Global Air Transportation Execution System; OMB Control Number 0704-0530.

Needs and Uses: GATES is the single DoD port processing and manifesting system providing support for the global air and surface movement of personnel and materiel, to include processing and tracking from port to port. It supports USTRANSCOM air and surface port management, provides functionality for Defense Courier Divisions, SDDC/G3, and AMC/A4T, while providing billing information for Transportation Working Capital Fund (TWCF) accounting.

Affected Public: Individuals or households.

Annual Burden Hours: 17,239.

Number of Respondents: 517,163.

Responses per Respondent: 1.

Annual Responses: 517,163.

Average Burden per Response: 2 minutes.

Frequency: On occasion.

Dated: June 7, 2023.
Aaron T. Siegel,
Alternate OSD Federal Register Liaison Officer, Department of Defense.

[FR Doc. 2023-12514 Filed 6-9-23; 8:45 am]

BILLING CODE 5001-06-P